DEPARTMENT OF TRANSPORTATION

Federal Aviation Administration

14 CFR Part 39

[Docket No. FAA-2017-0707; Directorate Identifier 2016-NM-014-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A318 series airplanes; Model A319 series airplanes; Model A320-211, -212, -214, -231, -232, and -233 airplanes; and Model A321 series airplanes. This proposed AD was prompted by reports of fatigue damage in the structure for the door stop fittings on certain fuselage frames (FR). This proposed AD would require repetitive rototest inspections for cracking of the fastener holes in certain door stop fittings, and repair if necessary. We are proposing this AD to address the unsafe condition on these products.

DATES: We must receive comments on this proposed AD by September 8, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus, Airworthiness Office-EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2017-0707; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2017-0707; Directorate Identifier 2016-NM-014-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2016-0238, dated December 2, 2016, corrected January 4, 2017 (referred to after this as the Mandatory Continuing Airworthiness Information, or “the MCAI”), to correct an unsafe condition for certain Airbus Model A318 series airplanes; Model A319 series airplanes; Model A320-211, -212, -214, -231, -232, and -233; and Model A321 series airplanes. The MCAI states:

During an A320 fatigue test campaign, it was determined that fatigue damage could appear at the door stop fitting holes of fuselage frame (FR) 66 and FR 68 on left hand (LH) and right hand (RH) sides.

This condition, if not detected and corrected, could affect the structural integrity of the airframe.

Two inspections, Airworthiness Limitations Item (ALI) tasks 534129 and 534130, were introduced in the Airworthiness Limitations Section (ALS) Part 2 with the April 2012 revision and with some compliance time changes with Revision 3 of ALS Part 2 of October 2014.

Since these ALI tasks were implemented, a significant number of reports [were] received concerning non-critical damage and early crack findings. Prompted by these reports, Airbus published SB A320-53-1288 and SB A320-53-1290, providing inspection instructions to improve damage management and modification instructions.

Consequently, EASA issued AD 2016-0015, requiring repetitive rototest inspections of the affected door stop fitting holes and, depending on findings, repair of any cracked area(s).

Since that [EASA] AD was issued, ALS Part 2 Revision 04 and later on Revision 05 were published, introducing updated thresholds and/or intervals for some tasks as specified in Airbus SB A320-53-1288, introducing new configuration of aeroplane with RETRO WING having accomplished SB A320-57-1193 (mod 160080), and keeping the threshold or interval only in flight cycles (FC).

For the reasons described above, this [EASA] AD retains the requirements of EASA AD 2016-0015, which is superseded, but requires those actions within the updated thresholds and intervals. In addition, a corrected threshold for pre-mod 160021 A321 aeroplanes is introduced and the Applicability is reduced to exclude configurations that are not affected.

This [EASA] AD is republished to clarify some requirements in Appendix 1 [in this EASA AD].

You may examine the MCAI in the AD docket on the Internet at http://www.regulations.gov by searching for and locating Docket No. FAA-2017-0707.

Related Service Information Under 1 CFR Part 51

We have reviewed the following Airbus service information.

• Airbus Service Bulletin A320-53-1288, Revision 01, including Appendixes 01, 02, and 03, dated October 3, 2016, provides procedures for rototest inspections for cracking of the fastener holes in the airframe structure for the door stop fittings installation in FR66 and FR68.

• Airbus Service Bulletin A320-53-1290, Revision 01, dated October 3, 2016, provides procedures for cold working the fastener holes in the airframe structure for the door stop fittings installation in FR66 and FR68.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between This Proposed AD and the MCAI

The MCAI includes an exception to the compliance times for “post-mod 160080 aeroplanes for which a `corrected' threshold or interval can be defined in accordance with the instructions of Airbus SB A320-57-1193.” Airbus Service Bulletin A320-57-1193, Revision 04, dated September 30, 2016, and earlier revisions, do not contain corrected compliance times for doing the actions specified in this proposed AD. Therefore, this proposed AD does not include that exception. Operators may request approval of an alternative method of compliance (AMOC) for revised compliance times under the provisions of paragraph (q)(1) of this proposed AD.

Explanation of Compliance Time

In most ADs, we adopt a compliance time allowing a specified amount of time after the AD's effective date. In this case, however, EASA has already issued regulations that require operators of airplanes in certain configurations to do a rototest inspection for cracking of the holes in certain door stop fittings to address an identified unsafe condition by certain dates. To provide for coordinated implementation of EASA's regulations and this proposed AD, we are using the same compliance dates in this proposed AD.

Costs of Compliance

We estimate that this proposed AD affects 1,084 airplanes of U.S. registry.

We estimate the following costs to comply with this proposed AD:

Estimated Costs
Action | Labor cost | Parts cost | Cost per product | Cost on U.S. operators
Inspections | 23 work-hours × $85 per hour = $1,955 per inspection cycle | $0 | $1,955 per inspection cycle | $2,119,220 per inspection cycle.

We estimate the following costs to do any necessary repairs that would be required based on the results of the proposed inspection. We have no way of determining the number of aircraft that might need this repair.

On-Condition Costs
Action | Labor cost | Parts cost | Cost per product
Repair | 27 work-hours × $85 per hour = $2,295 | $610 | $2,905

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Airbus: Docket No. FAA-2017-0707; Directorate Identifier 2016-NM-014-AD.

(a) Comments Due Date

We must receive comments by September 8, 2017.

(b) Affected ADs

None.

(c) Applicability

This AD applies to Airbus Model A318-111, -112, -121, and -122 airplanes; Model A319-111, -112, -113, -114, -115, -131, -132, and -133 airplanes; Model A320-211, -212, -214, -231, -232, and -233 airplanes; and Model A321-111, -112, -131, -211, -212, -213, -231, and -232 airplanes; certificated in any category; all manufacturer serial numbers, except airplanes specified in paragraphs (c)(1), (c)(2), and (c)(3) of this AD.

(1) Airplanes on which Airbus Modification (Mod) 157039 has been embodied in production.

(2) Model A319 series airplanes on which Mod 28238, Mod 28162, and Mod 28342 have been embodied in production.

(3) Model A318 series airplanes on which Mod 39195 has been embodied in production or Airbus Service Bulletin A320-00-1219 has been embodied in service.

(d) Subject

Air Transport Association (ATA) of America Code 53, Fuselage.

(e) Reason

This AD was prompted by reports of fatigue damage in the structure for the door stop fittings on certain fuselage frames (FR). We are issuing this AD to detect and correct cracking at the door stop fitting holes of fuselage FR66 and FR68. Such cracking could result in reduced structural integrity of the airplane due to the failure of structural components.

(f) Compliance

Comply with this AD within the compliance times specified, unless already done.

(g) Repetitive Rototest Inspections

Within the applicable compliance times specified in table 1 to paragraphs (g) and (j) of this AD and table 2 to paragraphs (g) and (j) of this AD: Do a rototest inspection of all holes below each door stop fitting at fuselage FR66 and FR68, both left-hand (LH) and right-hand (RH) sides, in accordance with the Accomplishment Instructions of Airbus Service Bulletin A320-53-1288, Revision 01, including Appendixes 01, 02, and 03, dated October 3, 2016. Repeat the inspections thereafter at the applicable compliance times specified in table 1 to paragraphs (g) and (j) of this AD and table 2 to paragraphs (g) and (j) of this AD, until the modification specified in paragraph (i) of this AD is done. Where the “Threshold” column of table 1 to paragraphs (g) and (j) of this AD and table 2 to paragraphs (g) and (j) of this AD, specifies compliance times in “FC” (flight cycles), those compliance times are total flight cycles since the first flight of the airplane.

Table 1 to Paragraphs (g) and (j) of This AD—Aft Passenger/Crew Door Cut-Out Door Stop Fittings Holes at FR66 WEB LH/RH
Airplanes affected | Threshold | Interval (not to exceed) (FC)
A318-PAX (A318-passenger) | Before 33,800 FC | 5,900.
A319-PAX pre-mod 160001 and pre-mod 160080 | Before 42,700 FC | 7,500.
A319-PAX post-mod 160001 OR A319-PAX post-mod 160080 | Before 40,300 FC | 7,200.
A320 pre-mod 160001 and pre-mod 160080 | Before 48,000 FC | 9,700.
A320 post-mod 160001 OR A320 post-mod 160080 | Before 45,500 FC | 7,800.
A321 pre-mod 160021 | Before 34,500 FC or before November 30, 2017, whichever is later, without exceeding the accumulation of 42,300 FC since first flight | 17,000.
A321 post-mod 160021 | 39,400 FC | 8,500.

Table 2 to Paragraphs (g) and (j) of This AD—Aft Passenger/Crew Door Cut-Out Door Stop Fittings Holes at FR68 WEB LH/RH
Airplanes affected | Threshold | Interval (not to exceed) (FC)
A318-PAX | Before 30,800 | 5,900.
A319-PAX pre-mod 160001 and pre-mod 160080 | Before 34,400 | 7,500.
A319-PAX post-mod 160001 OR A319-PAX post-mod 160080 | Before 33,500 | 7,200.
A320 | Before 40,900 | 9,700.
A321 pre-mod 160021 | Before 24,400 FC or before November 30, 2017, whichever is later, without exceeding the accumulation of 39,300 FC since first flight | 13,600.
A321 post-mod 160021 | Before 39,300 | 8,500.

(h) Airworthiness Limitations Item (ALI) Inspections Accomplished Before the Effective Date of This AD

Inspections accomplished as specified in ALI task 534129 or ALI task 534130 before the effective date of this AD are acceptable for compliance with the inspection required by paragraph (g) of this AD. As of the effective date of this AD, repetitive inspections must be continued as required by paragraph (g) of this AD.

(i) Optional Modification

For airplanes on which no cracks were detected during any rototest inspection required by paragraph (g) of this AD: Modifying the affected area by cold working the fastener holes before further flight after no cracks were detected, in accordance with the Accomplishment Instructions of Airbus Service Bulletin A320-53-1290, Revision 01, dated October 3, 2016, terminates the repetitive inspections required by paragraph (g) of this AD for the modified area only.

(j) Post-Modification Repetitive Inspections

For airplanes on which the modification specified in paragraph (i) of this AD has been done: At the compliance time specified in paragraph (j)(1), (j)(2), or (j)(3) of this AD, as applicable, accomplish a rototest inspection of all holes at the door stop fitting locations at fuselage FR66 and FR68, both LH and RH sides, in accordance with the Accomplishment Instructions of Airbus Service Bulletin A320-53-1288, Revision 01, including Appendixes 01, 02, and 03, dated October 3, 2016. Repeat the inspection thereafter at intervals not to exceed the applicable compliance times in table 1 to paragraphs (g) and (j) of this AD and table 2 to paragraphs (g) and (j) of this AD.

(1) For airplanes with less than 1,800 flight cycles accumulated since first flight of the airplane at the time of accomplishing the modification specified in paragraph (i) of this AD: At the applicable initial compliance time specified in table 1 to paragraphs (g) and (j) of this AD and table 2 to paragraphs (g) and (j) of this AD.

(2) For airplanes with 1,800 flight cycles or more and less than 13,800 flight cycles accumulated since first flight of the airplane at the time of accomplishing the modification specified in paragraph (i) of this AD: Before the accumulation of 48,000 flight cycles since first flight of the airplane.

(3) For airplanes with 13,800 flight cycles or more accumulated since first flight of the airplane at the time of accomplishing the modification specified in paragraph (i) of this AD: Before the accumulation of 60,000 flight cycles since first flight of the airplane.

(k) Repair

If, during any inspection required by paragraph (g) or (j) of this AD, any crack is detected, before further flight, repair using a method approved by the Manager, International Branch, ANM-116, FAA, Transport Airplane Directorate; or the European Aviation Safety Agency (EASA); or Airbus's EASA Design Organization Approval (DOA). Repair of an airplane as required by this paragraph does not constitute terminating action for the repetitive inspections required by paragraph (g) or (j) of this AD for that airplane, unless specified otherwise in instructions approved using a method approved by the Manager, International Branch, ANM-116, FAA, Transport Airplane Directorate; or the EASA; or Airbus's EASA DOA.

(l) Post-Repair Actions for Certain Airplanes

For an airplane that has been inspected as specified in ALI task 534129 or task 534130 and repaired before the effective date of this AD as specified in the applicable structural repair manual or as specified in an Airbus repair design approval sheet (RDAS): Comply with the requirements of paragraphs (l)(1) and (l)(2) of this AD.

(1) For all fastener holes where no damage or cracks were detected (i.e., those not repaired), accomplish the actions required by paragraph (g) of this AD, unless the terminating action specified in paragraph (m) of this AD has been done.

(2) For all repaired fastener holes: Within 30 days after the effective date of this AD, or within a compliance time approved by the Manager, International Branch, ANM-116, FAA, Transport Airplane Directorate; or the EASA; or Airbus's EASA DOA, whichever occurs later, contact the Manager, International Branch, ANM-116, FAA, Transport Airplane Directorate; or the EASA; or Airbus's EASA DOA; for inspection instructions and applicable corrective actions, and do the inspections and applicable corrective actions accordingly.

(m) Terminating Action for Certain Airplanes

For airplanes that have been inspected, as specified in ALI task 534129 or task 534130, and repaired before the effective date of this AD, as specified in the applicable structural repair manual, or as specified in an Airbus RDAS: Modification of the four fastener holes at door stop locations where no damage or crack was detected (i.e., door stop locations not repaired) by cold working holes before further flight after no cracks were detected, in accordance with the Accomplishment Instructions of Airbus Service Bulletin A320-53-1290, Revision 01, dated October 3, 2016, constitutes terminating action for the repetitive inspections of those four fastener holes at those door stop locations as required by paragraph (g) or (l)(1) of this AD for that airplane.

(n) Actions for Airplanes With Certain Repairs

For an airplane that has been repaired before the effective date of this AD in the areas described in this AD using an Airbus RDAS unrelated to ALI task 534129 or task 534130: Before exceeding the compliance times specified in paragraph (g) of this AD, contact the Manager, International Branch, ANM-116, FAA, Transport Airplane Directorate; or the EASA; or Airbus's EASA DOA; for corrective action instructions and accomplish those instructions accordingly. Accomplishment of corrective action(s) on an airplane, as required by this paragraph, does not constitute terminating action for the repetitive inspections as required by paragraph (g) or (j) of this AD for that airplane, as applicable, unless specified otherwise in the instructions.

(o) Terminating Action for ALI Tasks

(1) Accomplishment of inspections on an airplane, as required by paragraph (g), (j), or (l) of this AD, as applicable, constitutes terminating action for the inspection requirements of ALI task 534129 or task 534130, as applicable, for that airplane.

(2) Modification of the four fastener holes at a door stop location of an airplane as specified in paragraph (i) or (m) of this AD, as applicable, and subsequent initial inspection required by paragraph (j) of this AD, constitutes terminating action for the inspection requirements of ALI task 534129 or task 534130, as applicable, for those holes for that airplane. Subsequent repetitive inspections are required by paragraph (j) of this AD.

(p) Credit for Previous Actions

(1) This paragraph provides credit for actions required by paragraphs (g) and (j) of this AD, if those actions were performed before the effective date of this AD using Airbus Service Bulletin A320-53-1288, including Appendixes 01 and 02, dated October 10, 2014.

(2) This paragraph provides credit for actions required by paragraphs (i) and (m) of this AD, if those actions were performed before the effective date of this AD using Airbus Service Bulletin A320-53-1290, dated October 10, 2014.

(q) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (r)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA Airworthiness Directive 2016-0238, dated December 2, 2016, corrected January 4, 2017, for related information. This MCAI may be found in the AD docket on the Internet at http://www.regulations.gov by searching for and locating Docket No. FAA-2017-0707.

(2) For more information about this AD, contact Sanjay Ralhan, Aerospace Engineer, International Branch, ANM-116, Transport Airplane Directorate, FAA, 1601 Lind Avenue SW., Renton, WA 98057-3356; telephone 425-227-1405; fax 425-227-1149.

(3) For service information identified in this AD, contact Airbus, Airworthiness Office- EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on July 13, 2017.
Dionne Palermo,
Acting Manager, Transport Airplane Directorate, Aircraft Certification Service.

[FR Doc. 2017-15485 Filed 7-24-17; 8:45 am]

BILLING CODE 4910-13-P